ENVIRONMENTAL PROTECTION AGENCY

40 CFR Part 300

EPA-HQ-SFUND-1989-0008; FRL-9999-36-Region 3]

National Oil and Hazardous Substances Pollution Contingency Plan; National Priorities List: Deletion of the Strasburg Landfill Superfund Site

AGENCY: Environmental Protection Agency (EPA).

ACTION: Final rule.

SUMMARY: The Environmental Protection Agency (EPA) Region 3 announces the deletion of the Strasburg Landfill Superfund Site (Site) located south and slightly east of Strasburg Road in Newlin Township, Chester County, Pennsylvania from the National Priorities List (NPL). The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environment (PADEP, Southeast Region), have determined that all appropriate response actions under CERCLA, other than operation and maintenance (O&M), monitoring, and Five-Year Reviews, have been completed. However, this deletion does not preclude future actions under Superfund.

DATES: This action is effective September 5, 2019.

ADDRESSES:

Docket: EPA has established a docket for this action under Docket Identification No. EPA-HQ-SFUND-1989-0008. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the site information repositories. Locations, contacts, phone numbers and viewing hours are:

USEPA Region III Administrative Records Room, 1650 Arch Street—6th Floor, Philadelphia, PA 19103-2029, 215-814-3157, Business Hours: Monday through Friday, 8:00 a.m.-4:30 p.m.; by appointment only.

Local Repository, Bayard Taylor Memorial Library, 216 East State Street, Kennett Square, PA. 19358, Business Hours: Monday through Friday, 9:00 a.m.-8:00 p.m.

FOR FURTHER INFORMATION CONTACT: David Greaves, Remedial Project Manager, U.S. Environmental Protection Agency, Region III, 3HS21 1650 Arch St. Philadelphia, PA. 19103, 215-814-5729, email greaves.david@epa.gov.

SUPPLEMENTARY INFORMATION: The site to be deleted from the NPL is: Strasburg Landfill Superfund Site, Strasburg Road, Newlin Township, Chester County, Pennsylvania. A Notice of Intent to Delete for this Site was published in the Federal Register (84 FR 31826) on July 3, 2019.

The closing date for comments on the Notice of Intent to Delete was August 2, 2019. One public comment was received. The comment received was a request for EPA to make publicly available information on Site cleanup activities, estimates of future costs related to Site cleanup, and the actual costs when cleanup activities are completed. Since the comment is an informational request and is not an adverse comment regarding the deletion of this Site, EPA still believes this deletion action is appropriate. A responsiveness summary was prepared and placed in both the docket, EPA-HQ-SFUND-1989-0008, on www.regulations.gov, and in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: August 13, 2019.
Cosmo Servidio,
Regional Administrator, Region III.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of appendix B to part 300 is amended by removing “PA”, “Strasburg Landfill”, “Newlin Township”.

[FR Doc. 2019-19175 Filed 9-4-19; 8:45 am]

BILLING CODE 6560-50-P